DEPARTMENT OF AGRICULTURE

Forest Service

Gallatin Resource Advisory Committee; Meeting

AGENCY: Forest Service, Agriculture (USDA).

ACTION: Notice of meeting.

SUMMARY: The Gallatin Resource Advisory Committee (RAC) will hold a virtual meeting by phone and/or video conference. The committee is authorized under the Secure Rural Schools and Community Self-Determination Act (the Act) and operates in compliance with the Federal Advisory Committee Act. The purpose of the RAC is to improve collaborative relationships and to provide advice and recommendations to the Forest Service concerning projects and funding consistent with Title II of the Act as well as make recommendations on recreation fee proposals for sites on the Custer Gallatin National Forest. The Forest has two RACs. The Southern Montana RAC encompasses Park, Sweet Grass, Stillwater, and Powder River Counties. The Gallatin RAC serves Gallatin County. Both are consistent with the Federal Lands Recreation Enhancement Act. Information on the RACs and upcoming virtual meeting can be found at the following website: https://www.fs.usda.gov/detail/custergallatin/workingtogether/advisorycommittees/?cid=STELPRDB5304491.

DATES: The meeting will be held virtually on October 13, 2021 from 8:00 a.m.-12:00 p.m., Mountain Daylight Time.

RAC meetings are subject to cancellation. For status of the meeting prior to attendance, please contact the RAC Coordinator listed under FOR FURTHER INFORMATION CONTACT.

ADDRESSES: The meetings will be held virtually via video conference with a phone call-in option. Details regarding how to join the meeting are located on the website linked under SUMMARY.

Written comments may be submitted as described under SUPPLEMENTARY INFORMATION. All comments, including names and addresses when provided, are placed in the record and are available for public inspection and copying. The public may inspect comments received upon request.

FOR FURTHER INFORMATION CONTACT: Kathy Minor, Designated Federal Officer (DFO), by phone at 406-587-6776 or email at kathleen.minor@usda.gov or Kat Barker (RAC Coordinator) at 406-522-2536 or email at kathryn.barker@usda.gov.

Individuals who use telecommunication devices for the hearing-impaired (TDD) may call the Federal Relay Service (FRS) at 1-800-877-8339, 24 hours per day, every day of the year, incluing holidays.

SUPPLEMENTARY INFORMATION: The purpose of the meeting is to:

1. Hear from Title II project proponents and discuss project proposals;

2. Make funding recommendations on Title II projects;

3. Approve meeting minutes; and

4. Schedule the next meeting.

The meeting is open to the public. The agenda will include time for people to make oral statements of three minutes or less. Individuals wishing to make an oral statement should make their request in writing by September 24, 2021, to be scheduled on the agenda. Anyone who would like to bring related matters to the attention of the committee may file written statements with the committee staff before or after the meeting. Written comments and requests for time for oral comments must be sent to Kat Barker, RAC Coordinator, at 3710 Fallon Street, Suite C, Bozeman, MT 59718 or by phone at 406-522-2536 or via email to kathryn.barker@usda.gov.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: September 17, 2021.
Cikena Reid,
USDA Committee Management Officer.

[FR Doc. 2021-20568 Filed 9-22-21; 8:45 am]

BILLING CODE 3411-15-P